DEPARTMENT OF ENERGY

Federal Energy Regulatory Commission

[Docket Nos. RP03-484-000 and RP01-208-000 (not consolidated)]

The Toca Producers, Complainant, v. Southern Natural Gas Company, Amoco Production Company, et al., Respondents; Notice of Complaint

June 5, 2003.

Take notice that on May 28, 2003, pursuant to Rule 206 of the Rules of Practice and Procedure of the Federal Energy Regulatory Commission (Commission), 18 CFR 385.206, BP America Production Company, Chevron U.S.A. Inc., ExxonMobil Gas & Power Marketing Company, a division of Exxon Mobil Corporation, and Shell Offshore Inc. (jointly the Toca Producers) filed a complaint under Sections 4 and 5 of the Natural Gas Act, against Southern Natural Gas Company (Southern) and a request for an evidentiary hearing. The Toca Producers also move to hold the related and pending case, Amoco Production Company, et al., Docket No. RP01-208-000, in abeyance during the litigation of this complaint.

The Toca Producers allege that the lack of objective and nondiscriminatory liquefiable hydrocarbon gas quality standards in Southern's tariff is inconsistent with the public interest and permits Southern to discriminate unduly among parties delivering natural gas into Southern's system. The Toca Producers request an evidentiary hearing before an ALJ to develop a record upon which the contested issues of material fact can be resolved.

Any person desiring to be heard or to protest this filing should file with the Federal Energy Regulatory Commission, 888 First Street, NE., Washington, DC 20426, in accordance with rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before the comment date below. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659. The answer to the complaint, comments, protests and interventions may be filed electronically via the Internet in lieu of paper; see 18 CFR 385.2001(a)(1)(iii) and the instructions on the Commission's Web site under the “e-Filing” link. The Commission strongly encourages electronic filings.

Comment Date: June 17, 2003.

Magalie R. Salas,
Secretary.

[FR Doc. 03-14761 Filed 6-10-03; 8:45 am]

BILLING CODE 6717-01-P